DEPARTMENT OF THE TREASURY

Alcohol and Tobacco Tax and Trade Bureau

27 CFR Parts 7 and 25

[Notice No. 4]

RIN 1512-AC11

Flavored Malt Beverages and Related Proposals (2001R-136P)

AGENCY: Alcohol and Tobacco Tax and Trade Bureau (TTB), Treasury.

ACTION: Notice of proposed rulemaking; correction.

SUMMARY: This document corrects the preamble to a proposed rule published in the Federal Register on March 24, 2003, regarding flavored malt beverages. We inadvertently published an incorrect telephone number for submitting comments by fax. This correction gives the correct telephone number for submitting comments by fax.

FOR FURTHER INFORMATION CONTACT: Charles N. Bacon, Alcohol and Tobacco Tax and Trade Bureau, Regulations and Procedures Division, 10 Causeway Street, Room 701, Boston, MA 02222; telephone 617-557-1323.

Correction

In proposed rule FR Doc. 03-6855, beginning on page 14292 in the issue of March 24, 2003, make the following correction in the SUPPLEMENTARY INFORMATION section. On page 14300, in the second column, under the heading C. How May I Submit Comments?, correct the second paragraph to read:

“By fax: You may submit comments by facsimile transmission to 202-927-8525. We will treat faxed transmissions as originals.”

Dated: March 25, 2003.
John J. Manfreda,
Acting Administrator.

[FR Doc. 03-7624 Filed 3-27-03; 8:45 am]

BILLING CODE 4810-31-P